DEPARTMENT OF THE INTERIOR

National Park Service

[NPS-MWR-INDU-16199;PPMWMWROW2/PMP00UP05.YP0000]

Notice of Availability of the Final Shoreline Restoration Management Plan and Environmental Impact Statement for Indiana Dunes National Lakeshore

AGENCY: National Park Service, Interior.

ACTION: Notice of availability.

SUMMARY: The National Park Service (NPS) announces the availability of the Final Shoreline Restoration Management Plan and Environmental Impact Statement (SRMP), Indiana Dunes National Lakeshore, Indiana.

DATES: The Final SRMP will remain available for public review for 30 days following the publication of the Notice of Availability in the Federal Register by the Environmental Protection Agency.

ADDRESSES: A copy of the Final SRMP is available on the internet on the NPS Planning, Environment, and Public Comment Web site at: http://www.parkplanning.nps.gov/indu. It can also be accessed through the Park's home page at http://www.nps.gov/indu. Copies may be obtained by making a request in writing or picked up in person at Indiana Dunes National Lakeshore, 1100 N. Mineral Springs Road, Porter, Indiana 46304; telephone (219) 926-7561, extension 225.

FOR FURTHER INFORMATION CONTACT: Superintendent Paul Labovitz, Indiana Dunes National Lakeshore, at the address above, or by telephone at (219) 926-7561, extension 225.

SUPPLEMENTARY INFORMATION: The NPS has prepared a Final SRMP for Indiana Dunes National Lakeshore. The Final SRMP prescribes the resource conditions and restoration activities intended to maintain the shoreline over the next 15 to 20 years. The project area consists of four reaches of shoreline, Reaches 1 through 4, in an east-to-west direction. The park shoreline is not contiguous because of industrial and navigational structures, state park land, and other non-federal property.

The Draft SRMP presented a range of reasonable management alternatives. Alternative A, the No-Action alternative, described a continuation of current management practices, and was included as the baseline for comparing consequences of each alternative. Alternatives B, C, and D represent variations on beach nourishment activities. The use of submerged beach-stabilizing structures was discussed in alternative E.

In response to public comment on the Draft SRMP, the NPS has made changes to our preferred alternatives. Due to public and agency concern with alternative E in reaches 1 and 2, identified as our preferred alternative, the NPS has prepared a hybrid alternative F that incorporates the benefit of the gravel and rock materials from alternative E using inland mined and hauled sources described in alternative B-1 with the hydraulically dredged sands described in alternative C-1. This new hybrid alternative, our new preferred alternative, would provide the identical materials to the shoreline as alternative E only through a direct placement process. The majority of material used for beach nourishment would be obtained from fine and medium grained sediments that could be hydraulically dredged as in alternative C-1. The additional gravel and rock component would be obtained by implementing a portion of alternative B-1, hauled to the beach and mixed on-site with the hydraulically dredged sediments.

For reaches 3 and 4, the alternative C-5 which provided beach nourishment every five years was identified as the preferred alternative as stated in the Draft SRMP. In response to public and agency concerns, the preferred alternative has been changed to alternative C-1 that provides for beach nourishment annually.

The alternatives presented in this plan focus on balancing the quantities of sediment flowing through the shoreline reaches. Over the course of developing the SRMP, the alternatives were fine-tuned to accomplish this task and also address the protection of the shoreline from critical eroding areas, providing habitat opportunities, allowing for natural processes to continue, and rehabilitating the shoreline in a cost-effective manner. The SRMP also presents a discussion on terrestrial management practices as they relate to the visitor experience. As the park is a popular destination for millions of people, the impacts of human activities on the natural resources of the park are ever-present and additive.

The NPS will make no decision on the Final SRMP until after the expiration of the 30-day period announced above.

Dated: July 14, 2014.
Patricia S. Trap,
Acting Regional Director, Midwest Region.

[FR Doc. 2014-22945 Filed 9-25-14; 8:45 am]

BILLING CODE 4310-MA-P